DEPARTMENT OF THE INTERIOR

Fish and Wildlife Service

[FWS-R3-ES-2021-N018; FXES11130300000-201-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before April 30, 2021.

ADDRESSES: Document availability and comment submission: Submit requests for copies of the applications and related documents, as well as any comments, by one of the following methods. All requests and comments should specify the applicant name(s) and application number(s) (e.g., TEXXXXXX; see table in SUPPLEMENTARY INFORMATION):

• Email: permitsR3ES@fws.gov. Please refer to the respective application number (e.g., Application No. TEXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals who are hearing or speech impaired may call the Federal Relay Service at 1-800-877-8339 for TTY assistance.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications:

Application No. | Applicant | Species | Location | Activity | Type of Take | Permit action
PER0003286 | Elaine Evans, Saint Paul, MN | Rusty patched bumble bee (Bombus affinis) | MN, WI | Conduct presence/absence surveys, document habitat use, conduct population monitoring, evaluate impacts, bio-sample | Capture, handle, release; Pollen sampling, genetic sampling, fecal sampling | Amend
PER0003023 | Samuel Schratz, Villa Park, IL | Gray bat (Myotis grisescens), northern long-eared bat (M. septentrionalis) | CT, DE, DC, FL, LA, ME, MI, NE, NH, ND, RI, SC, SD, WI, WY | Conduct presence/absence surveys, document habitat use, conduct population monitoring, evaluate impacts | Capture, handle, mist-net, harp trap, band, radio-tag, PIT tag, collect wing biopsy samples, release | New
PER0003405 | Crystal Griffin, Overland Park, KS | Gray bat (Myotis grisescens), Indiana bat (M. sodalis), northern long-eared bat (M. septentrionalis), Ozark big-eared bat (Corynorhinus towsendii ingens), Virginia big-eared bat (C.t. virginianus) | AL, AR, CT, DE, GA, IL, IN, IA, KS, KY, ME, MD, MA, MI, MN, MS, MO, NE, NH, NJ, NY, NC, ND, OH, OK, PA, RI, SC, SD, TN, VT, VA, WV, WI | Conduct presence/absence surveys, document habitat use, conduct population monitoring, evaluate impacts | Capture, handle, mist-net, harp trap, band, radio-tag, collect hair and wing biopsy samples, release | New
PER0003488 | Brooke Hines, Littlejohn, CO | Gray bat (Myotis grisescens), Indiana bat (M. sodalis), northern long-eared bat (M. septentrionalis), Virginia big-eared bat (Corynorhinus towsendii virginianus) | AL, AR, CT, DE, DC, FL, GA, IL, IN, IA, KS, KY, ME, MD, MA, MI, MN, MS, MO, NE, NH, NJ, NY, NC, ND, OH, OK, PA, RI, SC, SD, TN, VT, VA, WV, WI | Conduct presence/absence surveys, document habitat use, conduct population monitoring, evaluate impacts | Capture, handle, mist-net, harp trap, band, radio-tag, light ta, PIT tag, collect hair, fugal lift tape, swab and wing biopsy samples, enter hibernacula and maternity roost caves, release, salvage | Renew
PER0003355 | Josiah Maine, Kansas City, MO | Add: Gray bat (Myotis grisescens) to existing permitted species: Indiana bat (Myotis sodalis) and northern long-eared bat (M. septentrionalis) | AR, CT, DC, DE, IA, IN, KY, KS, MA, ME, MD, MI, MN, MO, NH, NJ, NY, OH, OK, PA, RI, SD, TN, VA, VT, WI, WV | Conduct presence/absence surveys, document habitat use, conduct population monitoring, evaluate impacts | Capture, handle, hold, mist-net, band, radio-tag, release | Amend and renew
PER0003135 | Katie Baker, Arlington Heights, IL | Gray bat (Myotis grisescens), Indiana bat (M. sodalis), northern long-eared bat (M. septentrionalis), Ozark big-eared bat (Corynorhinus towsendii ingens), Virginia big-eared bat (C.t. virginianus) | AL, AR, CT, DE, FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, band, radio-tag, collect hair and wing biopsy samples, release, salvage | New
PER0003373 | Stantec Consulting Services, Inc., Columbus, OH | Gray bat (Myotis grisescens), Indiana bat (M. sodalis), northern long-eared bat (M. septentrionalis) | AL, AR, CT, DE, FL, GA, IL, IN, IA, KS, KY, LA, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, harp trap, band, radio-tag, enter hibernacula or maternity roost caves | Amend and renew
PER0003201 | Braden Hoffman, Daniels, WV | Indiana bat (Myotis sodalis), gray bat (M. grisescens), northern long-eared bat (M. septentrionalis), Virginia big-eared bat (Corynorhinus townsendii virginianus) | AL, AK, CT, FL, GA, IA, IL, IN, KY, KS, MA, MD, MI, MO, MS, NC, NJ, NY, OH, OK, PA, TN, VA, VT, WV | Conduct presence/absence surveys, document habitat use, conduct population monitoring, evaluate impacts | Capture, handle, mist-net, harp trap, band, radio-tag, release | Renew
PER0002967 | Donald Solick, Fort Collins, CO | Gray bat (Myotis grisescens), Indiana bat (M. sodalis), northern long-eared bat (M. septentrionalis) | AL, AR, CT, DE, DC, FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, harp trap, band, radio-tag, release | New
TE64080B | Michigan Natural Features Inventory, Lansing, MI | Add: Eastern Massasauga Rattlesnake (Sistrurus catenatus) and Rusty patched bumble bee (Bombus affinus) to existing permitted species: Indiana bat (Myotis sodalis), northern long-eared bat (M. septentrionalis), copperbelly water snake (Nerodia erythrogaster neglecta), American burying beetle (Nicrophorus americanus), Hine's emerald dragonfly (Somatochlora hineana), Karner blue butterfly (Somatochlora hineana), Mitchell's satyr (Neonympha mitchellii mitchellii), poweshiek skipperling (Oarisma poweshiek), white cat's paw (Epioblasma obliquata perobliqua), northern riffleshell (Epioblasma torulosa rangiana), snuffbox (Epioblasma triquetra), clubshell (Pleurobema clava), rayed bean (Villosa fabalis), American Hart's-tongue fern (Asplenium scolopendrium var. americum), pitcher's thistle (Cirsium pitcher), lakeside daisy (Hymenoxys herbacea), dwarf lake iris (Iris lacustris), small whorled pogonia (Isotria medeoloides), Michigan monkey flower (Mimulus michiganensis), eastern prairie fringed orchid (Platanthera leucophaea), Houghton's goldenrod (Solidago houghtonii) | MI | Conduct presence/absence surveys, document habitat use, conduct population monitoring, evaluate impacts | Capture, handle, hold, pit-tag, blood sample, release | Amend and renew
PER0003114 | Timothy Brust, Greenup, KY | Eastern massasauga rattlesnake (Sistrurus catenatus) | IA, IN, MI, MN, NY, OH, PA, WI | Conduct presence/absence surveys, document habitat use, conduct population monitoring, evaluate impacts | Capture, handle, release | New
PER0003423 | The Ohio State University, Columbus, OH | Clubshell (Pleurobema clava), rayed bean (Villosa fabalis), rabbitsfoot (Quadrula cylindrica cylindrica) | OH | Conduct presence/absence surveys, document habitat use, conduct population monitoring, evaluate impacts | Long-term hold | New

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Lori Nordstrom,
Assistant Regional Director, Ecological Services.

[FR Doc. 2021-06603 Filed 3-30-21; 8:45 am]

BILLING CODE 4333-15-P